DEPARTMENT OF HOUSING AND URBAN DEVELOPMENT

[Docket No. FR-6281-N-01]

Notice of Final Determination for the Sharing of Formula Area Data as the Result of Expansion of Formula Area

AGENCY: Office of the Assistant Secretary for Public and Indian Housing, Housing and Urban Development (HUD).

ACTION: Notice.

SUMMARY: This notice advises the public of HUD's final determination to approve a Memorandum of Agreement (MOA) between the Kalispel Indian Community (KIC), Colville Indian Housing Authority (CIHA) and Spokane Indian Housing Authority (SIHA) to allocate Needs data under the Indian Housing Block Grant (IHBG) program. This MOA resulted from HUD's decision to include the balance of Pend Oreille, Spokane and Stevens counties in the state of Washington into the Formula Area of the KIC, creating overlapping Formula Areas for the KIC, CHIA and SIHA. Consistent with IHBG program regulations HUD is announcing its final determination to approve the MOA.

DATES: Effective Date: August 2, 2021.

FOR FURTHER INFORMATION CONTACT: Hilary Atkin, Director, Office of Grants Management, Office of Native American Programs, Department of Housing and Urban Development, 451 Seventh Street SW, Room 9166, Washington, DC 20410, telephone 202-401-7914 (this is not a toll-free number). Hearing or speech-impaired individuals may access this number via TTY by calling the toll-free Federal Information Relay Service at 1-800-877-8339.

SUPPLEMENTARY INFORMATION: The Indian Housing Block Grant (IHBG) program allocation formula is authorized by section 302 of the Native American Housing Assistance and Self Determination Act of 1996 (25 U.S.C. 4101 et seq.) (NAHASDA). In accordance with program regulations at 24 CFR part 1000, funds appropriated by Congress for the IHBG program are made to eligible grant recipients by formula to ensure the equitable and fair distribution of funds. The formula has four components including Need. Need is calculated using the seven factors listed at 24 CFR 1000.324, each based on a tribe's formula area. Should a tribe's formula area overlap with one or more other Indian tribes, 24 CFR 1000.326 provides the procedure HUD will use to resolve issue.

On October 22, 2020, HUD informed the KIC, CHIA and SIHA of its preliminary decision to increase the formula area of the KIC to include the balance of Pend Oreille, Spokane and Stevens counties in the state of Washington. HUD's preliminary decision was based on the Department of the Interior's Near Reservation Area Designation (44 FR 154, August 8, 1979). As a result of this decision overlapping formula areas were created for the KIC, CHIA and SIHA.

Whenever tribes have overlapping formula area, the Needs data for all the individual areas for all tribes are combined and then apportioned among the tribes in the overlap. Section 1000.326(b) provides that tribes affected may develop their own method of partitioning the Needs data associated with their overlapping geographies. Consistent with 24 CFR 1000.302, HUD is required to notify the affected Indian tribes by certified mail and provided the tribes with opportunity to comment for a period of not less than 90 days. HUD met this requirement with its October 22, 2020, letter to the KIC, SIHA and CIHA.

By letter dated December 3, 2020, KIC transmitted a MOA dated November 3, 2020, and signed by KIC, CIHA, and SIHA that outlined an alternative method of sharing data. The MOA provides that the KIC and SIHA will receive double their Tribal enrollment as their proportional share of the Needs component and the CIHA will receive as its proportional share, the remaining Needs portion. The formula area to be shared consists of the Reservation and trust lands of the three Tribes plus the balance of Douglas, Ferry, Lincoln, Okanogan, Pend Oreille, Spokane, and Stevens counties, all in the State of Washington. Finally, the MOA states that the agreement covers the period FY 2021 through FY 2025 unless it is terminated by any of the Tribes or extended by agreement of all Tribes. Absent any further notification from the Tribes, HUD will share Needs associated with the geographies listed above based on the method and time-period outlined in the MOA. HUD will resume allocating such Needs data based on Total Resident Service Area Indian Population in FY 2026 unless further notification.

Consistent with 24 CFR 1000.302, HUD must consider all comments on its preliminary determination and publish the notice of final determination in the Federal Register. Consequently, this notice provides final determination that HUD is accepting the Tribe's MOA.

Dominique Blom,
General Deputy Assistant Secretary for Public and Indian Housing.

[FR Doc. 2021-16388 Filed 7-30-21; 8:45 am]

BILLING CODE 4210-67-P